ENVIRONMENTAL PROTECTION AGENCY

40 CFR Part 81

[EPA-HQ-OAR-2012-0918; FRL-9951-91-OAR]

Air Quality Designations for the 2012 Primary Annual Fine Particle (PM2.5) National Ambient Air Quality Standard (NAAQS) for Areas in Georgia and Florida

Correction

In rule document 2016-21338 beginning on page 61136 in the issue of Tuesday, September 6, 2016, make the following correction:

§ 83.311 [Amended]

On page 61141, in § 81.311, in the table, in the third column, the sixth entry should read “Unclassifiable/Attainment”.

[FR Doc. C1-2016-21338 Filed 9-21-16; 8:45 am]

BILLING CODE 1505-01-D